DEPARTMENT OF HEALTH AND HUMAN SERVICES

Agency for Healthcare Research and Quality

Agency Information Collection Activities: Proposed Collection; Comment Request

AGENCY: Agency for Healthcare Research and Quality, Health and Human Services (HHS).

ACTION: Notice.

SUMMARY: This notice announces the intention of the Agency for Healthcare Research and Quality (AHRQ) to request that the Office of Management and Budget (OMB) approve the proposed information collection project: “The Medical Expenditure Panel Survey (MEPS) Social and Health Experiences Self-Administered Questionnaire and COVID-19 Changes.” This proposed information collection was previously published in the Federal Register on May 7, 2020 and allowed 60 days for public comment. AHRQ received two substantive comments from members of the public. The purpose of this notice is to allow an additional 30 days for public comment.

DATES: Comments on this notice must be received by 30 days after date of publication of this notice.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Doris Lefkowitz, AHRQ Reports Clearance Officer, (301) 427-1477, or by email at doris.lefkowitz@AHRQ.hhs.gov.

SUPPLEMENTARY INFORMATION:

Proposed Project

“The Medical Expenditure Panel Survey (MEPS) Social and Health Experiences Self-Administered Questionnaire and COVID-19 Changes”

The Medical Expenditure Panel Survey (MEPS) consists of the following three components and has been conducted annually since 1996:

• Household Component (MEPS-HC): A sample of households participating in the National Health Interview Survey (NHIS) in the prior calendar year are interviewed 5 times over a 2 and one-half (2.5) year period. These 5 interviews yield two years of information on use of, and expenditures for, health care, sources of payment for that health care, insurance status, employment, health status and health care quality.

• Medical Provider Component: The MEPS-MPC collects information from medical and financial records maintained by hospitals, physicians, pharmacies and home health agencies named as sources of care by household respondents.

• Insurance Component: The MEPS-IC collects information on establishment characteristics, insurance offerings and premiums from employers. The MEPS-IC is conducted by the Census Bureau for AHRQ and is cleared separately.

This request is for the MEPS-HC only. The OMB Control Number for the MEPS-HC is 0935-0118, which was last approved by OMB on November 8, 2019, and will expire on November 30, 2022.

The purpose of this request is to integrate several items into the MEPS-HC including several new questions related to COVID-19 including telehealth/telemedicine questions into the computer assisted personal interviewing (CAPI) questionnaire and a new self-administered questionnaire (SAQ) entitled, “Social and Health Experiences,” into the MEPS. The questions on COVID-19 capture information on any delay in care due to COVID-19. The questions will be administered through a Reporting Unit (RU)-level gate question with follow up questions asked at the person level as appropriate. Telehealth/telemedicine will be administered as its own event type with questions and probes mirroring those used for in-person medical provider visits. This SAQ will include questions in a dual mode (web and paper) self-administered questionnaire about social and behavioral determinants of health including questions about housing affordability and quality, neighborhood characteristics, food security, transportation needs, financial strain, smoking and physical activity, and experiences with discrimination, social support, general well-being, personal safety, and adverse circumstances in childhood. The information collected will be used to examine the relationship between measures of the social determinants of health and measures of health status, and the use and expense of health care services. The goal of this survey is to help understand the relationship between social determinants of health and health care need in order to ultimately improve health care and health.

This study is being conducted by AHRQ through its contractors, Westat and RTI International, pursuant to AHRQ's statutory authority to conduct and support research on healthcare and on systems for the delivery of such care, including activities with respect to the cost and use of health care services and with respect to health statistics and surveys. 42 U.S.C. 299a(a)(3) and (8); 42 U.S.C. 299b-2.

Method of Collection

Data collection will be for eligible adults (aged 18 and over). AHRQ proposes a dual-mode (web and paper) collection primarily to further protect respondents' privacy due to the sensitive nature of some of the items. Web completion will be the main mode with paper offered to those with barriers to internet access. In addition, due to COVID-19, in March of 2020, MEPS moved to telephone interviewing for all panels and rounds currently in the field with increased use of the web to facilitate respondent reporting; for example, the use of showcards. The current plan is resume at least some face-to-face interviewing during the fall rounds for Panels 23, 24, and 25. Moreover, Panels 23 and 24 are to be extended one year with the creation of Round 6 and 7 interviews in order to contribute to the data collected for data years 2020 and 2021. The data collected will offset any impact on response rates due to the pandemic or changes in primary mode for data collection.

The new CAPI questions collecting information about COVID-19, including telehealth, will be folded into the regular processing stream of MEPS data to produce estimates of health care utilization and expenditures.

Estimated Annual Respondent Burden

Exhibit 1 shows the estimated annualized burden hours for respondent's time to participate in this research. The addition of several questions related to COVID-19 and telehealth adds minimal burden in hours and costs to the core CAPI interview, estimated to add 1 minute per interview and a total of 222 burden hours. The SAQ will be completed during Round 1, Panel 26, Round 3, Panel 25, and Round 5, Panel 24 by each person in the RU that is an eligible adult, an estimated 27,059 persons, and takes about 7 minutes to complete. The total annualized burden for this SAQ is estimated to be 3,157 hours.

Exhibit 2 shows the estimated annualized cost burden associated with respondents' time to participate in this research. The total cost burden is estimated to be $82,244 annually ($5,403 for COVID-19 related research including telemedicine questions and the $76,841 for the SAQ.

Exhibit 1—Estimated Annualized Burden Hours
Activity | Number of respondents | Number of responses per respondent | Hours per response | Total burden hours
COVID-19 and Telehealth (telemedicine) questions included in the MEPS questionnaire | * 13,338 | 1 | 1/60 | 222
Social and Health Experiences SAQ; Adult SAQ—Year 2021 | 27,059 | 1 | 7/60 | 3,157
Total | 40,397 | n/a | n/a | 3,379
* While the expected number of responding units for the annual estimates is 12,804, it is necessary to adjust for survey attrition of initial respondents by a factor of 0.96 (13.338 = 12/804/0.96).

Exhibit 2—Estimated Annualized Cost Burden
Activity | Number of respondents | Total burden hours | Average hourly wage rate * | Total cost burden
COVID-19 and Telehealth (telemedicine) questions included in the MEPS questionnaire | 13,338 | 222 | $24.34 | $5,403
Social and Health Experiences SAQ (SDOH); Adult SAQ—Year 2021 | 27,059 | 3,157 | 24.34 | 76,841
Total | 40,397 | 3,379 | n/a | 82,244
* Mean hourly wage for All Occupations (00-0000).

Occupational Employment Statistics, May 2017 National Occupational Employment and Wage Estimates United States, U.S. Department of Labor, Bureau of Labor Statistics.

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: July 30, 2020.
Virginia L. Mackay-Smith,
Associate Director.

[FR Doc. 2020-16948 Filed 8-3-20; 8:45 am]

BILLING CODE 4160-90-P